FEDERAL COMMUNICATIONS COMMISSION

[MB Docket No. 18-23; DA 19-438]

Elimination of Obligation To File Broadcast Mid-Term Report (Form 397)

AGENCY: Federal Communications Commission.

ACTION: Notice.

SUMMARY: In this document, the Federal Communications Commission (Commission or FCC) announces that the Office of Management and Budget (OMB) has approved the non-substantive modifications stemming from the Commission's Elimination of Obligation to File Broadcast Mid-Term Report Order (Order). This document is consistent with the Order, which stated that the Commission would publish a document in the Federal Register announcing the effective date of those changes and the elimination of FCC Form 397.

DATES: The changes take effect June 5, 2019.

FOR FURTHER INFORMATION CONTACT: For additional information, contact Jonathan Mark, Jonathan.Mark@fcc.gov, of the Media Bureau, Policy Division, (202) 418-3634. Direct press inquiries to Janice Wise at (202) 418-8165.

SUPPLEMENTARY INFORMATION:

Synopsis

On February 14, 2019, the Federal Communications Commission adopted in the above referenced proceeding a Report and Order (Order) to eliminate the Broadcast Mid-Term Report (Form 397).¹ Because the information collected in the Form 397 is or will be otherwise available via broadcasters' online public inspection files, the Commission has found that the requirement to file Form 397 is outdated and unnecessary. EEO staff will instead rely on publicly available information in its statutorily-required mid-term reviews of broadcasters' equal employment opportunity practices. On May 15, 2019, a copy of the Order was published in the Federal Register ² and the Commission received OMB approval to eliminate Form 397. Pursuant to the Order, the elimination of Form 397 will become effective upon publication of this notice in the Federal Register.

¹ Elimination of Obligation to File Broadcast Mid-Term Report (Form 397) Under Section 73.2080(f)(2), MB Docket No. 18-23, Report and Order, FCC 19-10 (rel. February 15, 2019).

² See 84 FR 21718.

People with Disabilities: To request materials in accessible formats for people with disabilities (Braille, large print, electronic files, audio format), send an email to fcc504@fcc.gov or call the Consumer & Governmental Affairs Bureau at 202-418-0530 (voice), 202-418-0432 (TTY).

Federal Communications Commission.
Thomas Horan,
Chief of Staff Media Bureau.

[FR Doc. 2019-11732 Filed 6-4-19; 8:45 am]

BILLING CODE 6712-01-P